SMALL BUSINESS ADMINISTRATION

Data Collection Available for Public Comments

ACTION: 60-Day notice and request for comments.

SUMMARY: The Small Business Administration (SBA) intends to request approval, from the Office of Management and Budget (OMB) for the collection of information described below. The Paperwork Reduction Act (PRA) requires federal agencies to publish a notice in the Federal Register concerning each proposed collection of information before submission to OMB, and to allow 60 days for public comment in response to the notice. This notice complies with that requirement.

DATES: Submit comments on or before May 13, 2022.

ADDRESSES: Send all comments to JoAnn Braxton, Program Analyst, Office of Entrepreneurship Education, joann.braxton@sba.gov Small Business Administration.

FOR FURTHER INFORMATION CONTACT: JoAnn Braxton, Program Analyst, Office of Entrepreneurship Education, Small Business Administration. Joann.braxton@sba.gov 202-205-6451 or Curtis B. Rich Agency Clearance Officer 202-205-7030 curtis.rich@sba.gov.

SUPPLEMENTARY INFORMATION: This information collection will facilitate registration for the new e-learning and networking platform for women entrepreneurs interested in accessing resources to support growing an existing business. This information collection will enable the Agency to track customer use of the platform and its resources. By collecting basic demographic information and data on the registrant's entrepreneurial goals, the SBA will better understand who is using the platform and their business goals, and can develop a platform that would enable the user to tailor delivery of content to meet their needs. This data collection will also facilitate user connectivity to relevant resources (peer-to-peer learning, networking, mentoring, etc.). Information collected will be used for determining the scope of user participation on the platform, as well as user satisfaction with platform content.

Solicitation of Public Comments:

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection:

PRA NUMBER: 3245-0399.

(1) Title: Women's Digitalization (Entrepreneur Learning) Initiative Registration.

Description of Respondents: To aid, counsel, assist, and protect the interests of small business concerns to preserve free competitive enterprise.

Form Number: N/A.

Total Estimated Annual Responses: 350,00.

Total Estimated Annual Hour Burden: 46,667.

Curtis Rich,
Management Analyst.

[FR Doc. 2022-05329 Filed 3-11-22; 8:45 am]

BILLING CODE 8026-03-P